FEDERAL COMMUNICATIONS COMMISSION

47 CFR Part 73

[DA 05-2005; MB Docket No. 05-88; RM-11173, RM-11177]

Radio Broadcasting Services; Lost Hills, Maricopa, and San Luis Obispo, CA

AGENCY: Federal Communications Commission.

ACTION: Final rule.

SUMMARY: This document grants a petition filed by GTM San Luis Obispo, licensee of Station KLRM(FM), San Luis Obispo, California, by substituting Channel 245B1 for Channel 246B1 at San Luis Obispo, California, reallotting Channel 245B1 from San Luis Obispo to Lost Hills, California, as its second local service, and modifying the Station KLRM(FM) license accordingly. See 69 FR 34115, published June 18, 2004. This document also dismisses a petition filed by 105 Mountain Air, Inc. requests the allotment of Channel 245A at Maricopa, California, as its second local service because no continued expression of interest was filed. It is the Commission's policy to refrain from making a new allotment to a community absent a bona fide expression of interest. Channel 245B1 can be reallotted to Lost Hills, California in conformity with the Commission's rules, provided there is a site restriction of 16.6 kilometers (10.3 miles) south at coordinates 35-28-00 NL and 119-41-00 WL.

DATES: Effective August 29, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-88, adopted July 13, 2005, and released July 15, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by adding Channel 245B1 at Lost Hills, and by removing Channel 246B1 at San Luis Obispo.

Federal Communications Commission.
John A. Karousos,
Assistant Chief, Audio Division, Media Bureau.

[FR Doc. 05-15129 Filed 8-2-05; 8:45 am]

BILLING CODE 6712-01-P